DEPARTMENT OF AGRICULTURE

Forest Service

Notice of Resource Advisory Committee, Custer, SD

AGENCY: Forest Service, USDA.

ACTION: Notice of Meeting.

SUMMARY: Pursuant to authorities in the Federal Advisory Committee Act (Pub. L. 92-463) and Public Law 110-343, enacted on October 3, 2008, reauthorizing and amending the Secure Rural Schools and Community Self Determination Act of 2000 (Public Law 106-393), the Black Hills National Forest Custer County Resource Advisory Committee will meet on Wednesday, February 25, 2009 in Custer, South Dakota. The meeting is open to the public.

SUPPLEMENTARY INFORMATION: The meeting on February 25, 2009 will begin at 6:30 p.m. at the Black Hills National Forest Supervisor's Office at 25041 North Highway 16, Custer, South Dakota. Agenda topics will be Status of Legislation and 2009 Title II projects.

FOR FURTHER INFORMATION CONTACT: Kelly Honors, Acting Hell Canyon District Ranger and Designated Federal Official, at 605-673-4853.

Kelly Honors,
Acting District Ranger.

[FR Doc. E9-2996 Filed 2-12-09; 8:45 am]

BILLING CODE 3410-11-M